NATIONAL AERONAUTICS AND SPACE ADMINISTRATION

[Notice (22-005)]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Tuesday, February 15, 2022, 12:00 p.m. to 6:00 p.m., Eastern Time.

ADDRESSES: Meeting will be virtual only. See dial-in information below under SUPPLEMENTARY INFORMATION.

FOR FURTHER INFORMATION CONTACT: Ms. Karshelia Kinard, Science Mission Directorate, NASA Headquarters, Washington, DC 20546, (202) 358-2355 or karshelia.kinard@nasa.gov.

SUPPLEMENTARY INFORMATION: As noted above, this meeting will be available to the public by WebEx only. The meeting event address for attendees is: https://nasaevents.webex.com/nasaevents/onstage/g.php?MTID=eaf02abdfed7a5acf5468be483fd15e67. The meeting number is: 2760 600 4415 and the password is: QTeyX3sXA24.

Accessibility: Captioning will be provided for this meeting. NASA is committed to providing equal access to this meeting for all participants. If you need alternative formats or other reasonable accommodations, please contact Ms. KarShelia Kinard, Science Mission Directorate, NASA Headquarters, Washington, DC 20546, (202) 358-2355 or karshelia.kinard@nasa.gov.

The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2022-01102 Filed 1-20-22; 8:45 am]

BILLING CODE 7510-13-P